DEPARTMENT OF LABOR

Employment and Training Administration

[TA-W-55,566]

Johnson Screens Inc., New Brighton, MN; Notice of Termination of Investigation

Pursuant to section 221 of the Trade Act of 1974, an investigation was initiated on September 7, 2004 in response to a petition filed by the TAA Coordinator of the Department of Employment Economic Development, Saint Paul, Minnesota on behalf of workers at Johnson Screens Inc., New Brighton, Minnesota.

The petitioner has requested that the petition be withdrawn. Consequently, the investigation has been terminated.

Signed in Washington, DC, this 10th day of September 2004.
Elliott S. Kushner,
Certifying Officer, Division of Trade Adjustment Assistance.

[FR Doc. E4-2341 Filed 9-22-04; 8:45 am]

BILLING CODE 4510-30-P